DEPARTMENT OF STATE

[Public Notice: 12098]

Designation of Maxamed Siidow, Cali Yare, Maxamed Dauud Gaabane, Suleiman Cabdi Daoud, Mohamed Omar Mohamed as Specially Designated Global Terrorists

Acting under the authority of and in accordance with section 1(a)(ii)(B) of E.O. 13224, I hereby determine that the persons known as: Maxamed Siidow (also known as Maxamed Siidow Sheikh Ibrahim), Cali Yare (also known as Ali Yare), Maxamed Dauud Gabaane (also known as Maxamed Daud Qaawane, Maxamed Daud, Mahamud Daud), Suleiman Cabdi Daoud (also known as Suleiman Daoud Goobe, Saleban Goobe, Saleeban Goobe), Mohamed Omar Mohamed (also known as Mohamed Omar Ma'alin, Maxamed Cumar Maxamed, Ma'd Umurow, Mohamed Omar Haji, Mohamed Haji Omar Mo'alin, Mohamed Omarow, Ibnu-Omar) are leaders of al-Shabaab, a group whose property and interests in property are currently blocked pursuant to a determination by the Secretary of State pursuant to E.O. 13224.

Consistent with the determination in section 10 of E.O. 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: May 5, 2023.
Antony J. Blinken,
Secretary of State.

[FR Doc. 2023-12419 Filed 6-9-23; 8:45 am]

BILLING CODE 4710-AD-P